DEPARTMENT OF TRANSPORTATION

Federal Aviation Administration

[Docket No. FAA-2009-0546]

Notice of Proposed Airport Access Restriction and Opportunity for Public Comment

AGENCY: Federal Aviation Administration (FAA), Department of Transportation (DOT).

ACTION: Notice; Request for comment.

SUMMARY: The Airport Noise and Capacity Act of 1990 (hereinafter referred to as “the Act” or “ANCA”) provides notice, review, and approval requirements for airports seeking to impose noise or access restrictions on Stage 3 aircraft operations that become effective after October 1, 1990. 49 U.S.C. 47521 et seq.

The Federal Aviation Administration (FAA) announces that it has determined the application for an airport noise and access restriction submitted by the Burbank Glendale Pasadena Airport Authority (BGPAA) for Bob Hope Airport (BUR) under the provisions of 49 U.S.C. 47524 of the ANCA, and 14 CFR part 161, to be complete. The BGPAA application seeks approval to implement a mandatory nighttime curfew at Bob Hope Airport. While the determination of completeness is not an approval or disapproval of the proposed airport access restriction, the determination of completeness does trigger the start of FAA's 180-day review period. The FAA will approve or disapprove the proposed noise and access restriction on or before November 1, 2009.

DATES: Effective Date: The effective date of the start of FAA's review of the application for a mandatory noise and access restriction at BUR is May 5, 2009. The public comment period ends 30 days from date published in the Federal Register.

FOR FURTHER INFORMATION CONTACT: Victoria L. Catlett, Planning and Environmental Division, APP-400, 800 Independence Avenue, SW., Washington, DC 20591. E-mail address: vicki.catlett@faa.gov. Telephone number 202-267-8770.

ADDRESSES: You may submit written comments, identified by docket number FAA-2009-0546, by any of the following methods:

Federal eRulemaking Portal: Go to http://regulations.gov and follow the online instructions for sending your comments electronically.

Mail: Send comments by mail to Docket Operations, U.S. Department of Transportation, M-30, Room W12-140, 1200 New Jersey Avenue, SE., Washington, DC 20590-0001. Persons wishing to receive confirmation of receipt of their written submission should include a self-addressed stamped postcard.

Hand Delivery: Deliver comments to Docket Operations in Room W12-140 on the ground floor of the West Building at 1200 New Jersey Avenue, SE., Washington, DC, between 9 a.m. and 5 p.m., Monday through Friday, except Federal holidays.

Facsimile: Fax comments to the docket operations personnel at 202-493-2251.

Reviewing the docket: To read background documents or comments received, go to http://www.regulations.gov at any time and follow the online instructions for accessing the docket; or go to Docket Operations in Room W12-140 on the ground floor of the West Building at 1200 New Jersey Avenue, SE., Washington, DC, between 9 a.m. and 5 p.m., Monday through Friday, except Federal holidays.

SUPPLEMENTARY INFORMATION: On February 3, 2009, FAA received BGPAA's initial request for approval of a full, mandatory night-time curfew at Bob Hope Airport as described in the attached application. The application states “Pursuant to FAR Part 161.311(d) the Authority is seeking a full, mandatory night-time curfew as described in the attached application. The Authority is not seeking any other alternative restriction.”

On March 5, 2009, FAA determined that the application was complete except for the environmental documentation provided in support of a categorical exclusion under the National Environmental Policy Act (NEPA). By letter dated March 9, 2009, BGPAA stated its intent to supplement and resubmit the application. On May 5, 2009, FAA received BGPAA's supplemented application. On May 29, 2009, FAA determined BGPAA's application to be complete. Pursuant to 14 CFR 161.313(c)(4)(ii), the FAA's 180-day review period starts on the date of receipt of the last supplement to the application (May 5, 2009).

Pursuant to 14 CFR 161.317, the FAA may approve or disapprove, in whole or in part, the proposed restriction or any alternative restriction, submitted by the BGPAA for FAA approval or disapproval. This notice also announces the availability of the proposed airport access restriction for public review and comment directly to the FAA for 30 days from the date this notice is published in the Federal Register.

FAA Action Under Part 161 Subpart D. The FAA will review and render a decision on the restriction as a whole, including its impacts on aircraft operations that are not classified as Stage 3, at the time it issues its decision to approve or disapprove the application for a full nighttime curfew submitted under Subpart D of part 161. This review will include a determination on how the restriction proposal addresses other applicable Federal law and BUR's grant assurances.

The FAA's detailed evaluation will be conducted under the provisions of 14 CFR part 161, § 161.317. The FAA may only approve a restriction that demonstrates by substantial evidence supporting each of the six statutory conditions for approval, contained in the Act and published in 14 CFR part 161, section 161.305. These six statutory conditions of approval are: Condition 1: The restriction is reasonable, nonarbitrary, and nondiscriminatory; Condition 2: The restriction does not create an undue burden or interstate or foreign commerce; Condition 3: The proposed restriction maintains safe and efficient use of the navigable airspace; Condition 4: The proposed restriction does not conflict with any existing Federal statute or regulation; Condition 5: The applicant has provided adequate opportunity for public comment on the proposed restriction; and Condition 6: The proposed restriction does not create an undue burden on the national aviation system.

Interested persons are invited to comment directly to the FAA on the proposed restriction application. The Authority's application is available on the BGPAA Web site at: http://www.burbankairport.com/. Your comments should relate to the factors that Part 161 requires an airport sponsor to address in its application for restriction approval. All relevant comments received within the public comment period will be considered by the FAA to the extent practicable before FAA makes its final decision on the application.

Questions may be directed to the individual named above under the heading, FOR FURTHER INFORMATION CONTACT.

Issued in Washington, DC, on June 5, 2009.
Catherine M. Lang,
Acting Associate Administrator for Airports.

[FR Doc. E9-14551 Filed 6-19-09; 8:45 am]

BILLING CODE 4910-13-P